DEPARTMENT OF ENERGY

Federal Energy Regulatory Commission

Combined Notice of Filings #1

Take notice that the Commission received the following exempt wholesale generator filings:

Docket Numbers: EG18-5-000.

Applicants: Voyager Wind II, LLC.

Description: Notice of Self-Certification of Exempt Wholesale Generator Status of Voyager Wind II, LLC.

Filed Date: 10/10/17.

Accession Number: 20171010-5216.

Comments Due: 5 p.m. ET 10/31/17.

Take notice that the Commission received the following electric rate filings:

Docket Numbers: ER17-2097-001.

Applicants: Midcontinent Independent System Operator, Inc.

Description: Tariff Amendment: 2017-10-06_Deficiency Response to Dynamic NCA Filing to be effective 1/4/2018.

Filed Date: 10/6/17.

Accession Number: 20171006-5161.

Comments Due: 5 p.m. ET 10/27/17.

Docket Numbers: ER18-41-000.

Applicants: Midcontinent Independent System Operator, Inc.

Description: § 205(d) Rate Filing: 2017-10-06_Continuous Improvement 3_RFP Staggering & Guidance Narrative Filing to be effective 12/6/2017.

Filed Date: 10/6/17.

Accession Number: 20171006-5173.

Comments Due: 5 p.m. ET 10/27/17.

Docket Numbers: ER18-42-000.

Applicants: Midcontinent Independent System Operator, Inc.

Description: § 205(d) Rate Filing: 2017-10-06_Continuous Improvement 4_Proposal Submission & Eval Process Filing to be effective 12/6/2017.

Filed Date: 10/6/17.

Accession Number: 20171006-5189.

Comments Due: 5 p.m. ET 10/27/17.

Docket Numbers: ER18-43-000.

Applicants: Wisconsin Power and Light Company, Quilt Block Wind Farm LLC.

Description: § 205(d) Rate Filing: LBA Agreement Between WPL and Quilt Block Wind Farm LLC to be effective 9/18/2017.

Filed Date: 10/6/17.

Accession Number: 20171006-5193.

Comments Due: 5 p.m. ET 10/27/17.

Docket Numbers: ER18-44-000.

Applicants: Midcontinent Independent System Operator, Inc.

Description: § 205(d) Rate Filing: 2017-10-06_Continuous Improvement 5_Multi-Facility & Mixed Facility Eval Filing to be effective 12/6/2017.

Filed Date: 10/6/17.

Accession Number: 20171006-5195.

Comments Due: 5 p.m. ET 10/27/17.

Docket Numbers: ER18-45-000.

Applicants: Southern California Edison Company.

Description: § 205(d) Rate Filing: SA No. 972, DSA for Moreno Valley, Kitching Street to be effective 11/3/2017.

Filed Date: 10/10/17.

Accession Number: 20171010-5013.

Comments Due: 5 p.m. ET 10/31/17.

Docket Numbers: ER18-46-000.

Applicants: Southwest Power Pool, Inc.

Description: § 205(d) Rate Filing: 1636R20 Kansas Electric Power Cooperative, Inc. NITSA and NOA to be effective 10/1/2017.

Filed Date: 10/10/17.

Accession Number: 20171010-5165.

Comments Due: 5 p.m. ET 10/31/17.

Docket Numbers: ER18-47-000.

Applicants: Voyager Wind II, LLC.

Description: Baseline eTariff Filing: MBR Application to be effective 12/10/2017.

Filed Date: 10/10/17.

Accession Number: 20171010-5200.

Comments Due: 5 p.m. ET 10/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2017.
Nathaniel J. Davis, Sr.,
Deputy Secretary.

[FR Doc. 2017-22280 Filed 10-13-17; 8:45 am]

BILLING CODE 6717-01-P